NUCLEAR REGULATORY COMMISSION

[Docket Nos. 50-315 and 50-316; NRC-2009-0094]

Indiana Michigan Power Company; Donald C. Cook Nuclear Plant, Units 1 and 2, Environmental Assessment and Finding of No Significant Impact

The U.S. Nuclear Regulatory Commission (NRC) is considering issuance of an exemption from Title 10 of the Code of Federal Regulations (10 CFR) Part 50, Section 36a(a)(2) [10 CFR 50.36a(a)(2)], for Facility Operating License Nos. DPR-58 and DPR-74, issued to Indiana Michigan Power Company (the licensee), for operation of the Donald C. Cook Nuclear Plant, Unit 1 and Unit 2, located in Berrien County. Therefore, as required by 10 CFR 51.21, the NRC is issuing this environmental assessment and finding of no significant impact.

Environmental Assessment

Identification of the Proposed Action

The regulation 10 CFR 50.36(a)(2) specifies that the Radioactive Effluent Release Report submittal interval must not exceed 12 months. By application dated October 21, 2008 (Agencywide Documents Access and Management System (ADAMS) Accession Number ML082970187), the licensee proposed an amendment to Technical Specification 5.6.3 which would change the submittal date from “within 90 days of January 1 of each year” (i.e., prior to April 1, 2009) to “prior to May 1 of each year.”

In the October 21, 2008, application, the licensee also requested a one-time exemption from the requirements of 10 CFR 50.36a(a)(2) to support the implementation of the proposed amendment which results in the 2008 Radioactive Effluent Release Report submittal exceeding the 12-month requirement.

The Need for the Proposed Action

The proposed action is required to support the implementation of the proposed amendment to Technical Specification 5.6.3. This amendment eliminates an undue administrative burden by extending the required submittal date for the Radioactive Effluent Release Report one additional month. As specified in 10 CFR 50.36a(a)(2), the interval between submittals must not exceed 12 months. A one-time exemption is required because the proposed amendment would result in the 2008 Radioactive Effluent Release Report submittal exceeding the 12-month requirement.

Environmental Impacts of the Proposed Action

The NRC has completed its safety evaluation of the proposed action and concludes that there are no environmental impacts associated with the proposed exemption. The details of the staff's safety evaluation will be provided in the exemption that will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources other than those previously considered in the Final Environmental Statement for the Donald C. Cook Nuclear Plant, Units 1 and 2, dated August 1973, and the Generic Environmental Impact Statement for License Renewal of the Donald C. Cook Nuclear Plant, Units 1 and 2 (NUREG-1437, Supplement 20), dated May 2005.

Agencies and Persons Consulted

On February 9, 2009, the staff consulted with the Michigan State official, Mr. Ken Yale, of the Michigan Department of Environmental Quality, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 21, 2008. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 24th day of February 2009.
For the Nuclear Regulatory Commission.
Terry A. Beltz,
Senior Project Manager, Plant Licensing Branch III-1, Division of Operating Reactor Licensing, Office of Nuclear Reactor Regulation.

[FR Doc. E9-4438 Filed 3-2-09; 8:45 am]

BILLING CODE 7590-01-P